DEPARTMENT OF COMMERCE

Foreign-Trade Zones Board

[Docket 13-2004]

Foreign-Trade Zone 29—Louisville, KY, Area; Application for Expansion

An application has been submitted to the Foreign-Trade Zones (FTZ) Board (the Board), by the Louisville and Jefferson County Riverport Authority, grantee of Foreign-Trade Zone 29, Louisville, Kentucky, requesting authority to expand FTZ 29-Site 4 to include an additional area within the Louisville Customs port of entry. The application was submitted pursuant to the provisions of the Foreign-Trade Zones Act, as amended (19 U.S.C. 81a-81u), and the regulations of the Board (15 CFR part 400). It was formally filed on March 29, 2004.

FTZ 29 was approved on May 26, 1977 (Board Order 118, 42 FR 29323, 6/8/77) and expanded on January 31, 1989 (Board Order 429, 54 FR 5992, 2/7/89); December 15, 1997 (Board Order 941, 62 FR 67044, 12/23/97); July 17, 1998 (Board Order 995, 63 FR 40878, 7/31/98); December 11, 2000 (Board Order 1133, 65 FR 79802, 12/20/00); January 15, 2002 (Board Order 1204, 67 FR 4391, 1/30/02); and, November 20, 2003 (Board Order 1305, 68 FR 67400, 12/2/03). The zone project currently consists of the following sites in the Louisville, Kentucky, area: Site 1 (1,674 acres)—1,668 acres within the Riverport Industrial complex and 6 acres at 3401 Jewell Avenue, Louisville; Site 2 (593 acres)—located at the junction of Gene Snyder Freeway and La Grange Road, eastern Jefferson County; Site 3 (142 acres)—United States Naval Ordnance facility, 5403 Southside Drive, Louisville; Site 4 (2,311 acres)—consisting of the Louisville International Airport and three other airport-related parcels; Site 5 (70 acres)—Marathon Ashland Petroleum LLC Tank Farm and pipelines, 4510 Algonquin Parkway along the Ohio River, Louisville; Site 6 (316 acres)—Cedar Grove Business Park, on Highway 480, near Interstate 65, Bullitt County; Site 7 (273 acres)—Henderson County Riverport Authority facilities, 6200 Riverport Road, Henderson; and, Site 8 (182 acres)—Owensboro Riverport Authority facilities, 2300 Harbor Road, Owensboro.

The applicant is now requesting authority to expand existing Site 4 to include an additional parcel at the Louisville Metro Commerce Center, 1900 Outer Loop Road in Louisville (101 acres, Proposed Site 4-Parcel E). The site is owned by Enterprise Industrial Park LLC. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building—Suite 4100W, 1099—14th St. NW., Washington, DC 20005; or

2. Submissions via the U.S. Postal Service: Foreign-Trade Zones Board, U.S. Department of Commerce, FCB—Suite 4100W, 1401 Constitution Ave. NW., Washington, DC 20230.

The closing period for their receipt is June 7, 2004. Rebuttal comments in response to material submitted during the foregoing period may be submitted during the subsequent 15-day period (to June 22, 2004).

A copy of the application and accompanying exhibits will be available for public inspection at the Office of the Foreign-Trade Zones Board's Executive Secretary at the first address listed above, and at the U.S. Department of Commerce, Export Assistance Center, Gene Snyder Courthouse Building, 601 West Broadway, Room 634B, Louisville, Kentucky 40402.

Dated: March 29, 2004.
Dennis Puccinelli,
Executive Secretary.

[FR Doc. 04-8017 Filed 4-7-04; 8:45 am]

BILLING CODE 3510-DS-P